ENVIRONMENTAL PROTECTION AGENCY

[FRL-8958-9; Docket ID No. EPA-HQ-ORD-2007-0925]

Draft Integrated Science Assessment for Carbon Monoxide

AGENCY: Environmental Protection Agency (EPA).

ACTION: Notice of public comment period.

SUMMARY: The Environmental Protection Agency (EPA) is announcing the availability of a document titled, “Integrated Science Assessment for Carbon Monoxide—Second External Review Draft” (EPA/600/R-09/019B). This draft document was prepared by the National Center for Environmental Assessment (NCEA) within EPA's Office of Research and Development as part of the review of the national ambient air quality standards (NAAQS) for carbon monoxide.

EPA is releasing this draft document to seek review by the Clean Air Scientific Advisory Committee (CASAC) and the public. The draft document does not represent and should not be construed to represent any final EPA policy, viewpoint, or determination. EPA will consider any timely public comments submitted in response to this notice when revising the document.

DATES: Comments must be received on or before November 13, 2009.

ADDRESSES: The “Integrated Science Assessment for Carbon Monoxide—Second External Review Draft” will be available primarily via the Internet on the National Center for Environmental Assessment's home page under the Recent Additions and Publications menus at http://www.epa.gov/ncea. A limited number of CD-ROM or paper copies will be available. Contact Ms. Debbie Wales by phone (919-541-4731), fax (919-541-5078), or e-mail (wales.deborah@epa.gov) to request either of these, and please provide your name, your mailing address, and the document title, “Integrated Science Assessment for Carbon Monoxide—Second External Review Draft” (EPA/600/R-09/019B) to facilitate processing of your request.

FOR FURTHER INFORMATION CONTACT: For technical information, contact Dr. Thomas C. Long, NCEA; telephone: 919-541-1880; facsimile: 919-541-2985; or e-mail: long.tom@epa.gov.

SUPPLEMENTARY INFORMATION:

I. Information About the Document

Section 108(a) of the Clean Air Act directs the EPA Administrator to identify certain pollutants that “cause or contribute to air pollution which may reasonably be anticipated to endanger public health or welfare” and to issue air quality criteria for them. These air quality criteria are to “accurately reflect the latest scientific knowledge useful in indicating the kind and extent of all identifiable effects on public health or welfare which may be expected from the presence of such pollutant in the ambient air * * *.” Under section 109 of the Act, EPA is to establish national ambient air quality standards (NAAQS) for each pollutant for which EPA has issued criteria. Section 109(d) of the Act requires periodic review and, if appropriate, revision of existing air quality criteria to reflect advances in scientific knowledge on the effects of the pollutant on public health or welfare. EPA is also to revise the NAAQS, if appropriate, based on the revised air quality criteria.

Carbon monoxide (CO) is one of six “criteria” pollutants for which EPA has established NAAQS. Periodically, EPA reviews the scientific basis for these standards by preparing an Integrated Science Assessment (ISA) (formerly called an Air Quality Criteria Document). The ISA and supplementary annexes, in conjunction with additional technical and policy assessments, provide the scientific basis for EPA decisions on the adequacy of the current NAAQS and the appropriateness of possible alternative standards. The Clean Air Scientific Advisory Committee (CASAC), an independent science advisory committee whose review and advisory functions are mandated by Section 109(d)(2) of the Clean Air Act, is charged (among other things) with independent scientific review of EPA's air quality criteria.

On September 13, 2007 (72 FR 52369), EPA formally initiated its current review of the air quality criteria for CO, requesting the submission of recent scientific information on specified topics. A workshop was held on January 28-29, 2008 (73 FR 2490) to discuss policy-relevant science to inform EPA's planning for the CO NAAQS review. Following the workshop, a draft of EPA's “Plan for Review of the National Ambient Air Quality Standards for Carbon Monoxide” (EPA-452/D-08-001) was made available in March 2008 for public comment and was discussed by the CASAC via a publicly accessible teleconference consultation on April 8, 2008 (73 FR 12998). EPA finalized the plan and made it available in August 2008 (EPA/452/R-08/005; http://www.epa.gov/ttn/naaqs/standards/co/s_co_cr_pd.html). In November 2008, EPA held an authors' teleconference to discuss, with invited scientific experts, preliminary draft materials prepared during the ongoing development of the CO ISA and its supplementary annexes.

The First External Review Draft ISA for CO (EPA/600/R-09/019; http://cfpub.epa.gov/ncea/cfm/recordisplay.cfm?deid=203935) was released on March 12, 2009 (74 FR 10734). This document was reviewed by the CASAC review panel and discussed at a public meeting held May 12-13, 2009 (74 FR 15265). The CASAC held a follow-up public teleconference on June 17, 2009 (74 FR 25530) to review and approve the CASAC CO Review Panel's draft letter providing comments to EPA on the First External Review Draft ISA for CO. Following the teleconference, CASAC sent a final letter report to EPA on June 24, 2009 (http://yosemite.epa.gov/sab/sabproduct.nsf/4620a620d0120f93852572410080d786/6E648129288BF930852575DF0070A528/$File/EPA-CASAC-09-011-unsigned.pdf).

After the end of the comment period on the Second External Review Draft ISA for CO, the CASAC review panel will review the draft at a public meeting. Timely public comments received will be provided to the CASAC review panel. A future Federal Register notice will inform the public of the exact date and time of that meeting.

II. How To Submit Technical Comments to the Docket at http://www.regulations.gov

Submit your comments, identified by Docket ID No. EPA-HQ-ORD-2007-0925, by one of the following methods:

• http://www.regulations.gov: Follow the on-line instructions for submitting comments.

• E-mail: ORD.Docket@epa.gov

• Fax: 202-566-1753

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2007-0925. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information through http://www.regulations.gov or e-mail that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the www.regulations.gov index. Although listed in the index, some information is not publicly available, e.g., CBI or other information whose disclosure is restricted by statute. Publicly available docket materials are generally available either electronically in http://www.regulations.gov or in hard copy at the OEI Docket in the EPA Headquarters Docket Center; however, certain materials, such as copyrighted material, are publicly available only in hard copy.

Dated: September 10, 2009.
Rebecca Clark,
Acting Director, National Center for Environmental Assessment.

[FR Doc. E9-22953 Filed 9-22-09; 8:45 am]

BILLING CODE 6560-50-P